DEPARTMENT OF ENERGY

Federal Energy Regulatory Commission

Combined Notice of Filings # 1

August 10, 2005.

Take notice that the Commission received the following electric rate filings:

Docket Numbers: ER02-600-005.

Applicants: Delta Energy Center, LLC

Description: Delta Energy Center, LLC submits First Revised Sheet Nos. 3 and 4 to FERC Electric Tariff, Original Volume 1 to be effective 3/21/05 in compliance with the Commission's orders dated 4/15/05 and 6/28/05 in Docket No. ER02-600-003 and 004.

Filed Date: 07/28/2005.

Accession Number: 20050801-0013.

Comment Date: 5 p.m. Eastern Time on Thursday, August 18, 2005.

Docket Numbers: ER02-1656-030.

Applicants: California Independent System Operator Corporation

Description: California Independent System Operator Corporation's compliance filing regarding convergence bidding pursuant to the Commission's 7/1/05 order, 112 FERC¶61,013 (2005).

Filed Date: 08/02/2005.

Accession Number: 20050805-0157.

Comment Date: 5:00 p.m. Eastern Time on Tuesday, August 23, 2005.

Docket Numbers: ER02-2339-002.

Applicants: Citadel Energy Products LLC.

Description: Citadel Energy Products LLC submits an updated market power analysis and a revised tariff sheet to its market-based rate.

Filed Date: 07/28/2005.

Accession Number: 20050801-0015.

Comment Date: 5 p.m. Eastern Time on Thursday, August 18, 2005.

Docket Numbers: ER04-886-002.

Applicants: Entergy Services, Inc.

Description: Entergy Services, Inc. submits its compliance refund report pursuant to the Commission's order issued 6/16/05, 111 FERC¶61,405 (2005).

Filed Date: 08/01/2005.

Accession Number: 20050804-0221.

Comment Date: 5 p.m. Eastern Time on Monday, August 22, 2005.

Docket Numbers: ER05-752-002.

Applicants: Midwest Independent Transmission System Operator, Inc. PJM Interconnection, L.L.C.

Description: Midwest Independent Transmission System Operator Inc. and PJM Interconnection, L.L.C. submit clarifying revisions to the calculation of Capacity Benefit Margin under the Cogeneration Management Process of their Joint Operating Agreement as required by the Commission's 7/05/05 order, 112¶61.029 (2005).

Filed Date: 08/04/2005.

Accession Number: 20050805-0268.

Comment Date: 5 p.m. Eastern Time on Thursday, August 15, 2005.

Docket Numbers: ER05-1164-001.

Applicants: TPGC, LP.

Description: TPGC, LP submits a Notice of Cancellation of its market-based electric tariff.

Filed Date: 07/29/2005.

Accession Number: 20050805-0168.

Comment Date: 5 p.m. Eastern Time on Friday, August 19, 2005.

Docket Numbers: ER05-1175-001.

Applicants: NorthWestern Energy.

Description: NorthWestern Corporation d/b/a NorthWestern Energy (NorthWestern Energy) submit corrected cover sheet with the correct designation to their 6/30/05 filing in Docket No. ER05-1175-000.

Filed Date: 08/02/2005.

Accession Number: 20050805-0155.

Comment Date: 5 p.m. Eastern Time on Tuesday, August 23, 2005.

Docket Numbers: ER05-1285-000

Applicants: Southwest Power Pool, Inc.

Description: Southwest Power Pool Inc. submits revisions to its regional Open Access Transmission Tariff.

Filed Date: 08/02/2005.

Accession Number: 20050804-0203.

Comment Date: 5 p.m. Eastern Time on Tuesday, August 23, 2005.

Docket Numbers: ER95-1787-017.

Applicants: Texaco Natural Gas Inc.

Description: Texaco Natural Gas Inc. submits updated triennial market power analysis and revised market-based rate tariff sheets.

Filed Date: 08/02/2005.

Accession Number: 20050805-0247.

Comment Date: 5 p.m. Eastern Time on Tuesday, August 23, 2005.

Docket Numbers: ER96-1145-015.

Applicants: Alternate Power Source, Inc.

Description: Alternate Power Source, Inc. submits updated power market analysis.

Filed Date: 08/01/2005.

Accession Number: 20050801-5041.

Comment Date: 5 p.m. Eastern Time on Monday, August 22, 2005.

Docket Numbers: ER96-2640-015.

Applicants: CHI Power Marketing Inc.

Description: CHI Power Marketing Inc. submits its triennial updated market analysis and revisions to its market-based rate schedule.

Filed Date: 08/01/2005.

Accession Number: 20050804-0207.

Comment Date: 5 p.m. Eastern Time on Monday, August 22, 2005.

Docket Numbers: ER96-719-006; EL05-59-000.

Applicants: MidAmerican Energy Company.

Description: MidAmerican Energy Company, in compliance with the Commission's 6/1/05 Order (111 FERC¶61,320 (2005)), submits additional information addressing transmission market power concerns and a sales tariff addressing generation market power concerns that were raised in connection with MidAmerican's most recent market power update.

Filed Date: 08/01/2005.

Accession Number: 20050804-0205.

Comment Date: 5 p.m. Eastern Time on Monday, August 29, 2005.

Docket Numbers: ER98-4643-003.

Applicants: Storm Lake Power Partners I LLC.

Description: Storm Lake Power Partners I LLC submits its updated market power analysis in support of its continued market-based rate authority.

Filed Date: 08/01/2005.

Accession Number: 20050805-0248.

Comment Date: 5:00 p.m. Eastern Time on Monday, August 22, 2005.

Docket Numbers: ER99-2774-008.

Applicants: Duke Energy Trading & Marketing, L.L.C.

Description: Duke Energy Trading & Marketing, L.L.C. submits its market power update.

Filed Date: 08/01/2005.

Accession Number: 20050803-0145.

Comment Date: 5 p.m. Eastern Time on Monday, August 22, 2005.

Docket Numbers: ER99-3151-004.

Applicants: PSEG Energy Resources & Trade LLC.

Description: PSEG Energy Resources & Trade LLC submits notice of change in status with regard to representations upon which the Commission relied in granting market-based rate authority to PSEG Energy Resources & Trade LLC.

Filed Date: 08/01/2005.

Accession Number: 20050804-0209.

Comment Date: 5 p.m. Eastern Time on Monday, August 22, 2005.

Docket Numbers: ER99-3665-005.

Applicants: Occidental Power Marketing LP.

Description: Occidental Power Marketing LP submits an updated market power analysis, a report of changes in status, and a revised market-based rate tariff sheet.

Filed Date: 08/01/2005.

Accession Number: 20050804-0222.

Comment Date: 5 p.m. Eastern Time on Monday, August 22, 2005.

Docket Numbers: ER99-3693-004; ER99-666-005; ER99-852-009; ER03-30-003; ER99-893-010; ER99-4229-008; ER99-4228-008; ER99-4231-007.

Applicants: Midwest Generation, LLC; EME Homer City Generation, L.P.; Edison Mission Marketing & Trading, Inc.; Midwest Generation Energy Services, LLC; CP Power Sales Twelve, L.L.C.; CP Power Sales Seventeen, L.L.C.; CP Power Sales Nineteen, L.L.C.; CP Power Sales Twenty, L.L.C.

Description: The above-referenced subsidiates of Edison Mission Energy s submit a notice of change in status to inform the Commission of their indirect affiliation with certain wind-powered generating projects.

Filed Date: 08/01/2005.

Accession Number: 20050805-0159.

Comment Date: 5 p.m. Eastern Time on Monday, August 22, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please email FERCOnlinSupport@ferc.gov. or call (866) 208-3676 (toll free). For TTY, call (202) 502-8659.

Linda Mitry,
Deputy Secretary.

[FR Doc. E5-4427 Filed 8-15-05; 8:45 am]

BILLING CODE 6717-01-P